DEPARTMENT OF COMMERCE

National Oceanic and Atmospheric Administration

50 CFR Part 622

[Docket No. 240919-0244]

RIN 0648-BN06

Fisheries of the Caribbean, Gulf of Mexico, and South Atlantic; Fishery Management Plans of Puerto Rico, St. Croix, and St. Thomas and St. John; Amendment 3

AGENCY: National Marine Fisheries Service (NMFS), National Oceanic and Atmospheric Administration (NOAA), Commerce.

ACTION: Proposed rule; request for comments.

SUMMARY: NMFS proposes to implement management measures described in Amendment 3 to the Fishery Management Plans (FMPs) for Puerto Rico, St. Croix, and St. Thomas and St. John, as prepared by the Caribbean Fishery Management Council (Council) (Amendment 3). If implemented, this proposed rule would establish new management measures for dolphinfish (Coryphaena hippurus) and wahoo (Acanthocybium solandri) in U.S. Caribbean Federal waters, including commercial and recreational minimum size limits and recreational bag and possession limits. The purpose of this proposed rule and Amendment 3 is to develop management measures to ensure dolphinfish and wahoo have adequate time to mature and reproduce and to take a precautionary approach to management to protect against overfishing.

DATES: Written comments must be received no later than October 28, 2024.

ADDRESSES: A plain language summary of this proposed rule is available at https://www.regulations.gov/docket/NOAA-NMFS-2024-0070. You may submit comments on this document, identified by “NOAA-NMFS-2024-0070” by either of the following methods:

• Electronic Submission: Submit all electronic public comments via the Federal e-Rulemaking Portal. Visit https://www.regulations.gov and type “NOAA-NMFS-2024-0070” in the Search box. Click on the “Comment” icon, complete the required fields, and enter or attach your comments.

• Mail: Submit written comments to Sarah Stephenson, Southeast Regional Office, NMFS, 263 13th Avenue South, St. Petersburg, FL 33701.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

An electronic copy of Amendment 3, which includes a fishery impact statement, an environmental assessment, a regulatory impact review, and a Regulatory Flexibility Act (RFA) analysis, may be obtained from the Southeast Regional Office website at https://www.fisheries.noaa.gov/action/amendment-3-puerto-rico-st-croix-and-st-thomas-and-st-john-fishery-management-plans.

FOR FURTHER INFORMATION CONTACT: Sarah Stephenson, 727-824-5305, sarah.stephenson@noaa.gov.

SUPPLEMENTARY INFORMATION: NMFS, with the advice of the Council, manages the Puerto Rico, St. Croix, and St. Thomas and St. John fisheries in U.S. Caribbean Federal waters under the Puerto Rico, St. Croix, and St. Thomas and St. John FMPs. The Council prepared the FMPs, which the Secretary of Commerce approved, and NMFS implements the FMPs through regulations at 50 CFR part 622 under the authority of the Magnuson-Stevens Fishery Conservation and Management Act (Magnuson-Stevens Act).

Background

The Magnuson-Stevens Act requires NMFS and the regional fishery management councils to prevent overfishing and achieve, on a continuing basis, the optimum yield from federally managed fish stocks to ensure that fishery resources are managed for the greatest overall benefit to the Nation, particularly with respect to providing food production and recreational opportunities, and protecting marine ecosystems.

On September 22, 2020, the Secretary of Commerce approved the Puerto Rico, St. Croix, and St. Thomas and St. John FMPs under section 304(a)(3) of the Magnuson-Stevens Act. The FMPs took effect on October 13, 2022, after NMFS published the final rule to implement the FMPs (87 FR 56204, September 13, 2022). Each FMP contains management measures applicable for Federal waters off the respective island management area. Federal regulations at 50 CFR part 622 subpart S, subpart T, and subpart U describe management measures for Puerto Rico, St. Croix, and St. Thomas and St. John, respectively. Federal waters around Puerto Rico extend seaward from 9 nautical miles (nmi) or 16.7 kilometers (km) from shore to the offshore boundary of the U.S. Caribbean exclusive economic zone (EEZ). Federal waters around St. Croix, and St. Thomas and St. John extend seaward from 3 nmi (5.6 km) from shore to the offshore boundary of the U.S. Caribbean EEZ.

Prior to implementation of the Puerto Rico, St. Croix, and St. Thomas and St. John FMPs, dolphinfish and wahoo were not federally managed in Federal waters in the U.S. Caribbean. Because of the economic importance of these fast-growing, short-lived pelagic species to the region, they were included for management under each of the Puerto Rico, St. Croix, and St. Thomas and St. John FMPs, even though, given their migratory nature, they are exposed to harvest pressure across a wide area of the Atlantic Ocean, the Gulf of Mexico, and the Caribbean Sea. While each FMP established annual catch limits (ACLs), annual catch targets (ACTs), and accountability measures for dolphinfish and wahoo, the FMPs did not establish other management measures often used to limit harvest or effort such as minimum size limits, recreational bag and possession limits, or commercial trip limits.

At its December 2021 meeting, the Council began discussions on management measures that could be used to address the increasing opportunity for the overharvest of juvenile dolphinfish as a result of the increasing influx and presence of Sargassum in the region. Sargassum is a type of floating brown algae that provides food, protection, and habitat for many marine species. The Sargassum mats are natural fish aggregating devices for dolphinfish and wahoo, including juveniles of each species, making them easier to locate and catch by fishermen. In addition, the lack of information available on the recreational harvest of dolphinfish and wahoo and the potential for excess harvest of the species to occur during recreational fishing trips is a concern.

The Puerto Rico, St. Croix, and St. Thomas and St. John FMPs and implementing island-based management rule did not include minimum size limits for dolphinfish or wahoo because these species were new to Federal management in the U.S. Caribbean. This proposed rule would establish minimum size limits for dolphinfish and wahoo for all fishing in U.S. Caribbean Federal waters (commercial and recreational sectors) to address the potential for small-sized (i.e., juvenile) individuals of these species to be caught year-round. Dolphinfish and wahoo are usually seasonally-caught species, but the annual influx of Sargassum to the region increases the likelihood that smaller fish could easily be harvested. Although there currently is not a large market for smaller-sized dolphinfish or wahoo, such a fishery could develop in the future and the Council recommends being proactive in the management of these species. Protecting smaller-sized dolphinfish and wahoo increases the potential that they have enough time to reproduce before being harvested.

Currently, there are no recreational bag or possession limits for dolphinfish or wahoo for the same reasons noted above. The proposed rule would establish recreational bag and possession limits for dolphinfish and wahoo to help regulate their harvest in U.S. Caribbean Federal waters by the recreational sector. While the Puerto Rico FMP established recreational sector ACLs and ACTs for dolphinfish and wahoo, the Marine Recreational Information Program that collected recreational data for Puerto Rico was suspended in 2017 and has not resumed to date. Recreational data were not collected for St. Croix or St. Thomas and St. John. As a result, neither the St. Croix FMP nor the St. Thomas and St. John FMP established sector-specific ACLs and ACTs for dolphinfish and wahoo. Though some catch information is available from recreational fishing tournaments that occur in Puerto Rico and the U.S. Virgin Islands (USVI), that information likely underrepresents the total number of dolphinfish or wahoo caught each year by the recreational sector. Thus, the number of recreational fishermen and the amount of dolphinfish or wahoo removed by the sector are largely unknown for the region. Setting recreational bag and possession limits for the recreational sector in Federal waters around Puerto Rico, St. Croix, and St. Thomas and St. John could reduce the chance of overfishing the resource, while allowing fishermen access to the species.

The proposed recreational bag and possession limits for dolphinfish would be more conservative than the recreational bag and possession limits that apply in Puerto Rico territorial waters, but consistent with the recreational bag and possession limits that apply in St. Croix, St. Thomas and St. John territorial waters. With respect to wahoo, the proposed recreational bag and possession limits would be consistent with the recreational bag and possession limits that apply in Puerto Rico territorial waters, but more conservative than the recreational bag and possession limits that apply in St. Croix, St. Thomas and St. John territorial waters. Compatible regulations make it easier for fishermen to comply with the regulations and for law enforcement to monitor compliance to the regulations.

Because the commercial landings of dolphinfish and wahoo in each island management area have been less than the corresponding ACLs, additional harvest constraints for the commercial sector are not needed at this time.

Management Measures Contained in This Proposed Rule

For dolphinfish and wahoo, this proposed rule would establish commercial and recreational minimum size limits and recreational bag and possession limits in Federal waters around Puerto Rico, St. Croix, and St. Thomas and St. John.

Minimum Size Limits

Currently, no minimum size limits are in place for dolphinfish or wahoo in Federal waters around Puerto Rico, St. Croix, and St. Thomas and St. John. All sizes of dolphinfish or wahoo that are caught by commercial or recreational fishermen can be retained, though subject to the applicable ACLs and ACTs. For commercial and recreational fishing in the Federal waters around Puerto Rico, St. Croix, and St. Thomas and St. John, this proposed rule would establish a 24 inches (61.0 centimeters (cm)) fork length (FL), minimum size limit for dolphinfish and a 32 inches (81.3 cm) FL, minimum size limit for wahoo. As described in Amendment 3, these minimum size limits are based on size at maturity information reported for each species in the U.S. Caribbean.

Recreational Bag and Possession Limits

Currently, no recreational bag or possession limits are in place for dolphinfish or wahoo in Federal waters around Puerto Rico, St. Croix, and St. Thomas and St. John. All dolphinfish or wahoo that are caught by recreational fishermen in U.S. Caribbean Federal waters during a recreational fishing trip can be retained, though subject to the applicable ACLs and ACTs. For Federal waters around Puerto Rico, this proposed rule would establish a recreational bag and possession limit of 5 dolphinfish per person per day, not to exceed 15 dolphinfish per vessel per day, whichever is less and a recreational bag and possession limit of 5 wahoo per person per day, not to exceed 10 wahoo per vessel per day, whichever is less. For Federal waters around St. Croix and St. Thomas and St. John, this proposed rule would establish recreational bag and possession limits of 10 dolphinfish per person per day, not to exceed 32 dolphinfish per vessel per day, whichever is less and recreational bag and possession limits of 2 wahoo per person per day, not to exceed 10 wahoo per vessel per day, whichever is less. As described in Amendment 3, these recreational bag and possession limits proposed for Federal waters are either consistent with, or more conservative than, current territorial bag limit regulations for dolphinfish and wahoo.

Classification

Pursuant to section 304(b)(1)(A) of the Magnuson-Stevens Act, the NMFS Assistant Administrator has determined that this proposed rule is consistent with Amendment 3, the FMPs for Puerto Rico, St. Croix, and St. Thomas and St. John, other provisions of the Magnuson-Stevens Act, and other applicable law, subject to further consideration after public comment.

This proposed rule has been determined to be not significant for purposes of Executive Order 12866.

An initial regulatory flexibility analysis (IRFA) was prepared, as required by section 603 of the RFA. The IRFA describes the economic impact this proposed rule, if adopted, would have on small entities. A copy of the full analysis is included in Amendment 3, which is available from the Southeast Regional Office website (see ADDRESSES section). A summary of the analysis follows.

Section 603(b)(1) requires Agencies to describe the reasons why the proposed rule is being considered. This proposed rule is being considered to develop conservation and management measures for dolphinfish and wahoo, which are recently added stocks to Federal management in the U.S. Caribbean. This proposed rule takes a precautionary approach to management to protect against overfishing of an unmanaged resource.

Section 603(b)(2) of the RFA requires agencies to state the objective of, and legal basis for the proposed action. The objective of this proposed rule is to establish size limits and recreational bag limits for dolphinfish and wahoo under the Puerto Rico FMP, the St. Croix FMP, and the St. Thomas/St. John FMP. These size limits would ensure proactive management of these species and increase the potential for these fish to enter the fishery and have time to reproduce. The Magnuson-Stevens Act provides the legal basis for this proposed rule.

Section 603(b)(4) of the RFA requires agencies to describe any new reporting, record-keeping and other compliance requirements. No new reporting and record-keeping requirements are introduced by this proposed rule.

Under section 603(b)(5) of the RFA, agencies must identify, to the extent practicable, relevant Federal rules which duplicate, overlap, or conflict with the proposed action. Relevant Federal rules include, but are not limited to, the Magnuson-Stevens Act, the Atlantic Tunas Convention Act, the High Seas Fishing Compliance Act, the Marine Mammal Protection Act, the Endangered Species Act, the National Environmental Policy Act, and the Coastal Zone Management Act. This proposed rule has been determined not to duplicate, overlap, or conflict with any Federal rules.

The proposed action, if implemented, would directly affect both anglers (recreational fishers) and commercial fishing businesses that harvest dolphinfish and wahoo in Federal waters around Puerto Rico and the USVI. Anglers, however, are not considered small entities as that term is defined in 5 U.S.C. 601(6), whether fishing from charter vessel or headboat (for-hire) fishing, privately owned, or leased vessels. Therefore, neither estimates of the number of anglers nor the impacts on them are required or provided in this analysis.

Section 603(b)(3) of the RFA requires agencies to provide an estimate of the number of small entities to which the rule would apply. The Small Business Administration (SBA) authorizes an agency to develop its own industry-specific size standards after consultation with the SBA Office of Advocacy and an opportunity for public comment (see 13 CFR 121.903(c)). For RFA purposes, NMFS has established a small business size standard for businesses, including their affiliates, whose primary industry is commercial fishing (see 50 CFR 200.2). A business primarily involved in commercial fishing (North American Industry Classification System 11411) is classified as a small business if it is independently owned and operated, is not dominant in its field of operation (including its affiliates), and its combined annual receipts are not in excess of $11 million for all of its affiliated operations worldwide. All of the following figures are expressed in 2021 dollars and all weights described in this proposed rule are in round weight.

From 2017 through 2021, an annual average of 706 Puerto Rico commercial fishermen were actively fishing, and each of these fishermen is expected to represent a unique commercial fishing business. On average, they collectively landed approximately 1.87 million pounds (lb) or 848,217.7 kilograms (kg) of marine resources with a direct value (revenue) of about $9.16 million from all waters. The highest annual landings and direct value from their combined landings during the 5-year period were in 2019: 2.47 million lb (1,120,373.2 kg) with a direct value of almost $12.03 million. The average commercial fisherman during this 5-year period had annual revenue from all landings of $12,975. None of the fishermen had annual revenue from fishing that was close to the small business standard size limit. From the above, NMFS concludes that all commercial fishing businesses in Puerto Rico are small.

Because price data are not available after 2019 in the USVI, estimates of the numbers of small commercial fishing businesses directly affected by the proposed rule and its impacts on them are generated using 2015 through 2019 data. From 2015 through 2019, an annual average of 127 commercial fishermen (59 in St. Croix and 68 in St. Thomas and St. John) were actively fishing and collectively they generated average annual direct revenues of $4.71 million (St. Croix $1.93 million and St. Thomas and St. John $2.78 million). Each of these commercial fishermen is expected to represent a unique business. Therefore, NMFS concludes that all commercial fishing businesses in St. Croix, St. Thomas and St. John are small.

Not all of the above active small commercial fishing businesses harvest dolphinfish or wahoo from Federal waters. On average, 94 (13.3 percent) of Puerto Rico's 706 small businesses land dolphinfish or wahoo annually from Federal and unknown waters. For this proposed rule, “unknown waters” represent an area around each island or island group for which the jurisdiction, Federal or territorial, was not reported on the commercial catch report form. Note that these figures include small businesses that land dolphinfish or wahoo from unknown waters, and, as such, may result in overestimates of both the numbers of small businesses directly affected and the impacts on them. Likewise, 15 (25.4 percent) of St. Croix's 59 small businesses land dolphinfish or wahoo annually from Federal and unknown waters: 14 land dolphinfish and 10 land wahoo. Twelve (17.7 percent) of St. Thomas and St. John's 68 small businesses land dolphinfish or wahoo annually from Federal and unknown waters: all land dolphinfish and 8 land wahoo.

The proposed action would establish a 24 inches (61.0 cm) FL, minimum size limit for all fishing for dolphinfish in Federal waters off Puerto Rico, St. Croix, and St. Thomas and St. John. It would also establish a 32 inches (81.3 cm) FL, minimum size limit for all fishing for wahoo in Federal waters off Puerto Rico, St. Croix, and St. Thomas and St. John. These minimum size limits are based on size at maturity information reported for each species in the U.S. Caribbean. There are currently no minimum size limits for either dolphinfish or wahoo in Federal waters.

Puerto Rico

An annual average of 45,016 lb (20,418.9 kg) of dolphinfish and 8,525 lb (3,866.9 kg) of wahoo are harvested from Federal and unknown waters by 94 small businesses annually. Forty-two (44.7 percent) of these small businesses land both dolphinfish and wahoo and they collectively account for 70.7 percent of dolphinfish landings and 89.5 percent of wahoo landings by weight. Forty-six (48.9 percent) account for the remainder (29.3 percent) of dolphinfish landings and six (6.4 percent) account for the remainder (10.5 percent) of wahoo landings. NMFS estimates that the proposed action would reduce commercial landings (by weight) of dolphinfish by less than 1 percent and wahoo by 11.9 percent annually.

On average, each of the 42 small businesses that land both dolphinfish and wahoo from Federal and unknown waters would have annual reductions of dolphinfish landings of less than 8 lb (3.6 kg) and annual reductions of wahoo landings of 22 lb (10.0 kg). At 2021 prices, the 42 small businesses that land both dolphinfish and wahoo would experience annual revenue decreases of less than $130 (less than $33 from dolphinfish and $97 from wahoo). The combined loss represents less than 0.6 percent of the average annual revenue from all landings for these 42 small businesses.

The 48 small businesses that land dolphinfish and not wahoo from Federal and unknown waters would each have an annual reduction in dolphinfish landings less than 3 lb (1.4 kg) and $13. The loss of dolphinfish revenue represents less than 0.1 percent of the average annual revenue of these 46 small businesses.

The 6 small businesses that land wahoo and not dolphinfish from Federal and unknown waters would each have an annual reduction in wahoo landings of 18 lb (8.2 kg) and $78. The loss of wahoo revenue represents 0.6 percent of the average annual revenue of these six small businesses.

Two alternatives to the 24 inches (61.0 cm) FL, minimum size limit for dolphinfish were considered but not recommended by the Council. The first, the no-action alternative, would have no adverse impact on small businesses but would not support proactive species management. The second would have a smaller minimum size limit (20 inches; 50.8 cm FL), and, like the recommended alternative, it would reduce annual commercial landings of dolphinfish by less than 1 percent. This smaller size limit corresponds with only 50 percent of females being capable of reproduction as opposed to the 24 inches FL, which corresponds with approximately all females being mature. As such, the 24 inches FL is preferable to reduce fishing pressures and allow more females to reach maturity.

Two alternatives to the 32 inches (81.3 cm) FL, minimum size limit for wahoo were considered but not recommended by the Council. The first, the no-action alternative, would have no adverse impact on small businesses but would not support proactive species management. The second, would establish a larger minimum size limit (40 inches; 101.6 cm, FL) and would reduce landings of wahoo by 37.7 percent instead of the 11.9 percent reduction caused by the recommended alternative. This alternative is not preferable as it would have a greater adverse impact on small businesses than the 32 inches FL minimum size limit.

St. Croix

An annual average of 15 small businesses harvest dolphinfish or wahoo from Federal and unknown waters. To avoid potential disclosure of priority information, a comparison of the small businesses that land both dolphinfish and wahoo and impacts on them to businesses that land one of the species is not provided. An annual average of 14 small businesses in St. Croix land dolphinfish from Federal and unknown waters. The top 7 account for 95.4 percent of dolphinfish landings, while the bottom 7 account for the remaining 4.6 percent. On average, these 14 small businesses collectively land 34,038 lb (15,439.4 kg) of dolphinfish annually. The average of the top 7 small businesses lands 4,640 lb (2,104.7 kg) of dolphinfish and has annual revenue from all landings of $98,803 annually. The average of the bottom 7 small businesses lands 225 lb (102.1 kg) of dolphinfish and has annual revenue from all landings of $8,711 annually.

NMFS estimates that the action would reduce annual commercial landings of dolphinfish in St. Croix by 5 percent. On average, each of the top 7 of the small businesses that land dolphinfish from Federal and unknown waters would have an annual reduction in dolphinfish landings of 234 lb (106.1 kg) and $1,491, which represents 1.5 percent of their average annual revenue from all landings. Each of the bottom 7 that land dolphinfish from Federal and unknown waters would have an average annual reduction in landings of about 9 lb (4.1 kg) and $57, which represents 0.7 percent of their average annual revenue from all landings.

An annual average of 10 small businesses in St. Croix land wahoo from Federal and unknown waters. The top 5 account for 95.4 percent of wahoo landings, while the bottom 5 account for the remaining 4.6 percent. On average, these 10 small businesses collectively land 17,966 lb (8,149.2 kg) of wahoo annually. The average of the top 5 small businesses lands 3,692 lb (1,674.7 kg) of wahoo and has annual revenue from all landings of $129,686 annually. The average of the bottom 5 small businesses lands 140 lb (63.5 kg) of wahoo and has annual revenue from all landings of $19,373 annually.

NMFS estimates that the action would reduce annual commercial landings of wahoo in St. Croix by 2.2 percent. On average, each of the top 5 of the 10 small businesses that land wahoo from Federal and unknown waters would have an annual reduction in wahoo landings of 76 lb (34.5 kg) and $502, which represents 0.4 percent of their average annual revenue from all landings. Each of the bottom 5 that land wahoo from Federal and unknown waters would have an average annual reduction in landings of 4 lb (1.8 kg) and $26, which represents 0.1 percent of their average annual revenue from all landings.

Two alternatives to the 24 inches (61.0 cm) FL, minimum size limit for dolphinfish were considered but not recommended by the Council. The first, the no-action alternative, would have no adverse impact on small businesses but would not support proactive species management. The second would have a smaller minimum size limit (20 inches; 50.8 cm, FL), and it would reduce dolphinfish landings by 3.9 percent as opposed to the 5.0 percent that would be caused by the recommended alternative. However, this smaller minimum size limit would not be as effective for reducing fishing pressures on the species.

Two alternatives to the 32 inches (81.3 cm) FL, minimum size limit for wahoo were considered but not recommended. The first, the no-action alternative, would have no adverse impact on small businesses but would not support proactive species management. The second, would establish a larger minimum size limit (40 inches; 101.6 cm, FL) and would reduce annual wahoo landings by 44.6 percent as opposed to the 2.2 percent reduction that would be caused by the recommended alternative. As such, this alternative is not preferable as it would have a greater adverse impact on small businesses than the 32 inches FL minimum size limit.

St. Thomas and St. John

An annual average of 12 small businesses in St. Thomas and St. John land dolphinfish from Federal and unknown waters. The top 6 account for 97.2 percent of dolphinfish landings, while the bottom 6 account for the remaining 2.8 percent. On average, these 12 small businesses collectively land 8,889 lb (4,032.0 kg) of dolphinfish annually. The average of the top 6 small businesses lands 1,440 lb (653.2 kg) of dolphinfish and has annual revenue from all landings of $27,311 annually. The average of the bottom 6 small businesses lands 41 lb (18.6 kg) of dolphinfish and has annual revenue from all landings of $25,031 annually.

NMFS estimates that the action would reduce annual commercial landings of dolphinfish in St. Thomas and St. John by 1 percent. On average, each of the top 6 of the 12 small businesses that land dolphinfish from Federal and unknown waters would have an annual reduction in dolphinfish landings of about 15 lb (6.8 kg) and $554, which represents 2.0 percent of their average annual revenue from all landings. Each of the bottom 6 that land dolphinfish from Federal and unknown waters would have an average annual reduction in landings of less than 1 lb (0.5 kg) and $3, which represents less than 0.1 percent of their average annual revenue from all landings.

An annual average of 8 small businesses in St. Thomas and St. John land wahoo from Federal and unknown waters. The top 4 account for 89.6 percent of wahoo landings, while the bottom 4 account for the remaining 10.4 percent. On average, these 8 small businesses collectively land 3,058 lb (1,387.1 kg) of wahoo annually. The average of the top 4 small businesses lands about 685 lb (310.7 kg) of wahoo and has annual revenue from all landings of $31,792 annually. The average of the bottom 4 small businesses lands about 80 lb (36.3 kg) of wahoo and has annual revenue from all landings of $15,659 annually.

It is estimated that the recommended minimum size limit for wahoo would reduce commercial landings of wahoo in St. Thomas and St. John by 12 percent, which would be a reduction of 367 lb (166.5 kg) annually. The average of the top 4 small businesses would have an annual decrease in wahoo landings of 82 lb (37.2 kg) and revenues of $622, which represents about 2 percent of their annual revenue from all landings. The average of the bottom 4 small businesses would have an annual decrease of wahoo landings by 10 lb (4.4 kg) and revenue of about $76, which represents about 0.5 percent of annual revenue from all landings.

Two alternatives to the 24 inches (61.0 cm) FL, minimum size limit for dolphinfish were considered but not recommended by the Council. The first, the no-action alternative, would have no adverse impact on small businesses but would not support proactive species management. The second would have a smaller minimum size limit (20 inches; 50.8 cm, FL), and it would reduce dolphinfish landings by less than 1 percent which is the same annual reduction in landings as the recommended alternative. This smaller minimum size limit corresponds to the size at which only approximately 50 percent of females are mature. As such, the larger minimum size limit is preferable to reduce fishing pressures by allowing more females to reach maturity.

Two alternatives to the 32 inches (81.3 cm) FL, minimum size limit for wahoo were considered but not recommended by the Council. The first, the no-action alternative, would have no adverse impact on small businesses. The second, would establish a larger minimum size limit (40 inches; 101.6 cm, FL), which would reduce wahoo landings by a larger percentage than the recommended alternative.

This proposed rule contains no information collection requirements under the Paperwork Reduction Act of 1995.

List of Subjects in 50 CFR Part 622

Caribbean, Dolphinfish, Fisheries, Fishing, Wahoo.

Dated: September 24, 2024.
Samuel D. Rauch, III,
Deputy Assistant Administrator for Regulatory Programs, National Marine Fisheries Service.

For the reasons set out in the preamble, NMFS proposes to amend 50 CFR part 622 as follows:

PART 622—FISHERIES OF THE CARIBBEAN, GULF OF MEXICO, AND SOUTH ATLANTIC

1. The authority citation for part 622 continues to read as follows:

Authority: 16 U.S.C. 1801 et seq.

2. In § 622.441, add paragraph (b) to read as follows:

§ 622.441 Size limits.

* * * * *

(b) Pelagic fish. (1) Dolphinfish—24 inches (61.0 cm), FL.

(2) Wahoo—32 inches (81.3 cm), FL.

* * * * *

3. In § 622.444, add paragraph (b) to read as follows:

§ 622.444 Bag and possession limits.

* * * * *

(b) Pelagic fish. (1) Dolphinfish—5 per person per day, not to exceed 15 per vessel per day, whichever is less.

(2) Wahoo—5 per person per day, not to exceed 10 per vessel per day, whichever is less.

* * * * *

4. In § 622.481, add paragraph (b) to read as follows:

§ 622.481 Size limits.

* * * * *

(b) Pelagic fish. (1) Dolphinfish—24 inches (61.0 cm), FL.

(2) Wahoo—32 inches (81.3 cm), FL.

* * * * *

5. In § 622.484, add paragraph (b) to read as follows:

§ 622.484 Bag and possession limits.

* * * * *

(b) Pelagic fish. (1) Dolphinfish—10 per person per day, not to exceed 32 per vessel per day, whichever is less.

(2) Wahoo—2 per person per day, not to exceed 10 per vessel per day, whichever is less.

* * * * *

6. In § 622.516, add paragraph (b) to read as follows:

§ 622.516 Size limits.

* * * * *

(b) Pelagic fish. (1) Dolphinfish—24 inches (61.0 cm), FL.

(2) Wahoo—32 inches (81.3 cm), FL.

* * * * *

7. In § 622.519, add paragraph (b) to read as follows:

§ 622.519 Bag and possession limits.

* * * * *

(b) Pelagic fish. (1) Dolphinfish—10 per person per day, not to exceed 32 per vessel per day, whichever is less.

(2) Wahoo—2 per person per day, not to exceed 10 per vessel per day, whichever is less.

* * * * *

[FR Doc. 2024-22242 Filed 9-26-24; 8:45 am]

BILLING CODE 3510-22-P